DEPARTMENT OF VETERANS AFFAIRS

Veterans' Disability Benefits Commission; Notice of Meeting

The Department of Veterans Affairs (VA) gives notice under Public Law 92-463 (Federal Advisory Committee Act) that the Veterans' Disability Benefits Commission has scheduled a meeting on September 15-16, 2005, in the Lincoln Ballroom, Fourth Floor, Holiday Inn, 8777 Georgia Avenue, Silver Spring, Maryland 20910. The meeting is open to the public and will begin at 8:30 a.m. and end at 4:30 p.m. each day. The public is encouraged to visit the Commission's Web site at http://www.va.gov/vetscommission for transportation options to the Holiday Inn from the Silver Spring metro stop.

The purpose of the Commission is to carry out a study of the benefits under the laws of the United States that are provided to compensate and assist veterans and their survivors for disabilities and deaths attributable to military service.

The agenda for the meeting will include briefings by each of the Veterans' Disability Benefits Commission Subcommittees, one or more Federally Funded Research and Development Center(s) [FFRDC(s)], and the Institute of Medicine (IOM) of the National Academy of Sciences. The purpose of these briefings will be to provide the Commission with recommendations on key issues and research questions for further study and analysis, followed by an overview of potential research projects and methodologies to assist the Commission with its charter and fulfill the requirements outlined in Public Law 108-136, the National Defense Authorization Act of 2004. (The Commission is required by this law to consult with the IOM concerning the medical aspects of contemporary disability compensation policies.) One or more FFRDC(s) will supplement the Commission's work with additional resources, surveying capabilities, research, study and analysis of the key issues and questions that the Commission will identify during this two-day event.

Interested persons may attend and present oral statements to the Commission. Time for oral presentations will be limited to five minutes or less, depending on the number of participants. Interested parties may provide written comments for review by the Commission prior the meeting, by e-mail to: veterans@vetscommission.intranets.com or by mail to: Mr. Ray Wilburn, Executive Director, Veterans' Disability Benefits Commission, 1101 Pennsylvania Avenue, NW., 5th Floor, Washington, DC 20004.

Dated: September 1, 2005.
By direction of the Secretary.
E. Philip Riggin,
Committee Management Officer.

[FR Doc. 05-17847 Filed 9-8-05; 8:45 am]

BILLING CODE 8320-01-M